POSTAL SERVICE

39 CFR Part 20

International Mail: Mailing Services Price Changes

AGENCY: Postal Service™.

ACTION: Final rule.

SUMMARY: On October 24, 2013, the USPS™ published two proposed rules to revise various sections of Mailing Standards of the United States Postal Service, International Mail Manual (IMM®) to reflect a notice of price adjustments filed with the Postal Regulatory Commission (PRC). The PRC has found that price adjustments contained in the Postal Service's notice may go into effect on January 26, 2014. This final rule revises the IMM to reflect these changes.

DATES: Effective date: January 26, 2014.

FOR FURTHER INFORMATION CONTACT: Rick Klutts at 813-877-0372.

SUPPLEMENTARY INFORMATION:

I. Proposed Rules and Response

On September 26, 2013, the Postal Service filed notices of international mailing services price adjustments with the Postal Regulatory Commission (PRC), effective on January 26, 2014. On October 24, 2013, the USPS™ published two proposed rules in the Federal Register titled, “International Mailing Services: Proposed Price Changes—CPI” (78 FR 63433-63434) and “International Mailing Services: Proposed Price Changes—Exigent” (78 FR 63434-63435). The proposed rules included changes that we would adopt to implement the changes coincident with the price adjustments and publish accordingly in Mailing Standards of the United States Postal Service, International Mail Manual (IMM®). We received no comments on either proposed rule.

II. Decision of the Postal Regulatory Commission

As prescribed in the Postal Regulatory Commission's (PRC) Order No. 1926, issued on December 24, 2013, in Docket No. R2013-11, the PRC found that the prices in the Postal Service's Exigent Request may go into effect on January 26, 2014. This final rule conveys the final mailing standards to accommodate the new prices. Prices will be available at www.usps.com, Postal Explorer, Notice 123.

List of Subjects in 39 CFR Part 20

Foreign relations, International postal services.

For the reasons stated in the preamble, the Postal Service hereby adopts the following changes to Mailing Standards of the United States Postal Service, International Mail Manual (IMM), which is incorporated by reference in the Code of Federal Regulations. See 39 CFR 20.1. Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the Mailing Standards of the United States Postal Service, International Mail Manual (IMM) as follows:

* * * * *

Mailing Standards of the United States Postal Service, International Mail Manual (IMM)

* * * * *

Individual Country Listings

* * * * *

Extra Services

Certificate of Mailing (313)

[For each country that offers certificate of mailing service, revise the text to read as follows:]

Individual Pieces—Refer to Notice 123, Price List, for the applicable price:

Individual article (PS Form 3817).

Firm mailing books (PS Form 3877), per article listed (minimum 3).

Duplicate copy of PS Form 3817 or PS Form 3877 (per page).

Bulk Quantities—Refer to Notice 123, Price List, for the applicable price:

First 1,000 pieces (or fraction thereof).

Each additional 1,000 pieces (or fraction thereof).

Duplicate copy of PS Form 3606.

Registered Mail (330)

[For each country that offers international Registered Mail service, remove the specific fee noted on the right and add a line to read as follows:]

Fee: Refer to Notice 123, Price List, for the price.

* * * * *

Return Receipt (340)

[For each country that offers international return receipt service, remove the specific fee noted on the right and add a line to read as follows:]

Fee: Refer to Notice 123, Price List, for the price.

* * * * *

International Business Reply Service (382)

[For each country that offers International Business Reply service, revise the text to read as follows:]

Fee: Refer to Notice 123, Price List, for the applicable price:

Envelopes up to 2 ounces.

Cards.

* * * * *

We will publish an appropriate amendment to 39 CFR part 20 to reflect these changes.

Stanley F. Mires,
Attorney, Legal Policy & Legislative Advice.

[FR Doc. 2014-00821 Filed 1-17-14; 8:45 am]

BILLING CODE 7710-12-P